DEPARTMENT OF THE INTERIOR

Bureau of Indian Affairs

25 CFR Part 169

[Docket ID BIA-2014-0001; DR.5B711.IA000814]

RIN 1076-AF20

Rights-of-Way on Indian Land

AGENCY: Bureau of Indian Affairs, Interior.

ACTION: Proposed rule; Extension of comment period.

SUMMARY: On June 17, 2014, we published a proposed rule to revise regulations governing rights-of-way on Indian land. We have since received several requests for extension of the comment period. This notice extends the comment deadline by 45 days and announces the addition of a public hearing on the proposed rule.

DATES: Comments on this rule must be received by October 2, 2014. The public hearing will be held on Wednesday, September 17, 2014, at 1 p.m. Eastern Time.

ADDRESSES: You may submit comments by any of the following methods:

• Federal rulemaking portal: http://www.regulations.gov. The rule is listed under the agency name “Bureau of Indian Affairs.” The rule has been assigned Docket ID: BIA-2014-0001.

• Email: consultation@bia.gov. Include the number 1076-AF20 in the subject line.

• Mail or hand delivery: Ms. Elizabeth Appel, Office of Regulatory Affairs & Collaborative Action, U.S. Department of the Interior, 1849 C Street NW., MS 3642, Washington, DC 20240. Include the number 1076-AF20 on the envelope.

Please note that none of the following will be considered or included in the docket for this rulemaking: comments received after the close of the comment period (see DATES) or comments sent to an address other than those listed above.

FOR FURTHER INFORMATION CONTACT: Ms. Elizabeth Appel, Director, Office of Regulatory Affairs & Collaborative Action, (202) 273-4680; elizabeth.appel@bia.gov.

SUPPLEMENTARY INFORMATION:

On June 17, 2014, we published a proposed rule to comprehensively update and streamline the process for obtaining BIA grants of rights-of-way on Indian land. See 79 FR 34455. Since publication of the proposed rule, we have received several requests for extension of the comment period and the opportunity for additional public input. This notice extends the comment deadline by 45 days and announces a public hearing on this proposed rule. The public hearing will be held by teleconference on Wednesday, September 17, from 1 p.m. to 4 p.m., Eastern Time, at (888) 790-2010, passcode 1863865.

The proposed rule, frequently asked questions, and other information are online at: http://www.bia.gov/WhoWeAre/AS-IA/ORM/RightsofWay/index.htm.

Dated: August 8, 2014.
Lawrence S. Roberts,
Principal Deputy Assistant Secretary—Indian Affairs.

[FR Doc. 2014-19165 Filed 8-12-14; 8:45 am]

BILLING CODE 4310-W7-P